FEDERAL COMMUNICATIONS COMMISSION

47 CFR Part 73

[DA 06-1053; MB Docket No. 06-19; RM-11288]

Radio Broadcasting Services; Hattiesburg and Sumrall, MS

AGENCY: Federal Communications Commission.

ACTION: Final rule.

SUMMARY: In response to a Notice of Proposed Rule Making, this Report and Order upgrades Channel 226A, FM Station WGDQ, Hattiesburg, Mississippi, to Channel 226C3, reallotts Channel 226C3 from Hattiesburg to Sumrall, Mississippi, and modifies Station WGDQ's license accordingly. The coordinates for Channel 226C3 at Sumrall, Mississippi, are 31-33-15 NL and 89-24-50 WL, with a site restriction of 19.5 kilometers (12.1 miles) northeast of Sumrall.

DATES: Effective July 3, 2006.

ADDRESSES: Federal Communications Commission, 445 12th Street, S.W., Washington, DC 20554.

FOR FURTHER INFORMATION CONTACT: R. Barthen Gorman, Media Bureau, (202) 418-2180.

SUPPLEMENTARY INFORMATION: This is a synopsis of the Commission's Report and Order, MB Docket No. 06-19, adopted May 17, 2006, and released May 19, 2006. The full text of this Commission decision is available for inspection and copying during normal business hours in the FCC's Reference Information Center at Portals II, 445 12th Street, SW, Room CY-A257, Washington, DC, 20554. The document may also be purchased from the Commission's duplicating contractor, Best Copy and Printing, Inc., Portals II, 445 12th Street, SW, Room CY-B402, Washington, DC, 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For the reasons discussed in the preamble, the Federal Communications Commission amends 47 CFR part 73 as follows:

PART 73—RADIO BROADCAST SERVICES

1. The authority citation for part 73 reads as follows:

Authority: 47 U.S.C. 154, 303, 334, 336.

§ 73.202 [Amended]

2. Section 73.202(b), the Table of FM Allotments under Mississippi is amended by removing Channel 226A at Hattiesburg, and by adding Channel 226C3 at Sumrall.

Federal Communications Commission.
John A. Karousos,
Assistant Chief, Audio Division, Media Bureau.

[FR Doc. E6-8862 Filed 6-6-06; 8:45 am]

BILLING CODE 6712-01-P